DEPARTMENT OF ENERGY

Federal Energy Regulatory Commission

[Docket No. IC06-715-000; FERC-715]

Commission Information Collection Activities, Proposed Collection; Comment Request; Extension

August 24, 2006.

AGENCY: Federal Energy Regulatory Commission.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due October 31, 2006.

ADDRESSES: Copies of sample filings of the proposed collection of information can be obtained from the Commission's Web site (http://www.ferc.gov/docs-filings/elibrary.asp) or from the Federal Energy Regulatory Commission, Attn: Michael Miller, Office of the Executive Director, ED-34, 888 First Street NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC06-715-000.

Documents filed electronically via the Internet must be prepared in WordPerfect, MS Word, Portable Document Format, or ASCII format. To file the document, access the Commission's Web site at http://www.ferc.gov and click on “Make an E-filing”, and then follow the instructions for each screen. First time users will have to establish a user name and password. The Commission will send an automatic acknowledgement to the sender's e-mail address upon receipt of comments.

All comments may be viewed, printed or downloaded remotely via the Internet through the Commission's homepage using the eLibrary link. For user assistance, contact FERCOlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-715 “Annual Transmission Planning and Evaluation Report”, (OMB No. 1902-0171) is mandated by section 213(b) of the Federal Power Act (FPA), as amended by the Energy Policy Act of 1992. Through section 213(b) Congress requires the Commission to collect annually from transmitting utilities, certain transmission system information and make it available to potential transmission providers, customers and state regulatory authorities. This information collection also supports the Commission's responsibilities under sections 202, 207, 210-213, 304, 309 and 311 of the FPA, as amended (49 Stat. 838; 16 U.S.C. 791a-825r). The Commission's FERC-715 filing requirements are published in the Code of Federal Regulations (CFR), 18 CFR section 141.300.

Through the FERC-715, the Commission gathers basic electric transmission system information. The Commission staff use the FERC-715 information to evaluate available transmission capacity and assess transmission reliability. Electrical transmission customers and transmission dependent utilities use the information, in conjunction with other information sources, to assess transmission availability. Federal and private agencies use the information in transmission simulations to test the impact of changes to the transmission system, necessary to improve system functioning. FERC-715 filing instructions are provided on the Commission's Web site at http://www.ferc.gov/docs-filings/elibrary.asp. In order to assist the Commission in properly analyzing the information received from respondents for the FERC-715, several clarifications of the instructions are proposed and a copy of those clarifications accompanies this notice for comment. These clarifications are not to be considered as changes to the information filed with the FERC-715.

Some or all of the information collected may be treated as Critical Energy Infrastructure Information (CEII) (see Order 630, OMB Control No. 1902-0197). CEII is information concerning proposed or existing critical infrastructure (physical or virtual) that:

1. Relates to the production, generation, transmission or distribution of energy;

2. Could be useful to a person planning an attack on critical infrastructure;

3. Is exempt from mandatory disclosure under the Freedom of Information Act; and

4. Gives strategic information beyond the location of the critical infrastructure.

CEII is not available to the public. The Commission has established procedures for gaining access to CEII that would otherwise not be available under the Freedom of Information Act (FOIA) requests. These actions are necessary to keep highly sensitive infrastructure information out of the public domain thus decreasing the likelihood that such information could be used to plan and execute terrorist attacks.

Action: The Commission is requesting a three-year extension of the current expiration date, with no changes to the existing collection of data and only clarifications to the instructions.

Burden Statement: Public reporting burden for this collection is estimated as:

Number of respondents annually | Number of responses per respondent | Average burden hours per response | Total annual burden hours
(1) | (2) | (3) | (1)×(2)×(3)
183 | 1 | 160 | 29,280

Estimated cost burden to respondents is $1,651,519. (29,280 hours/2080 hours per year times $117,321 per year average per employee). The cost per respondent is $9,025).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Magalie R. Salas,
Secretary.

[FR Doc. E6-14402 Filed 8-29-06; 8:45 am]

BILLING CODE 6717-01-P